TENNESSEE VALLEY AUTHORITY

Solar and Battery Programmatic Environmental Impact Statement

AGENCY: Tennessee Valley Authority.

ACTION: Notice of intent.

SUMMARY: TVA is working to build an energy system powered by cleaner, more flexible energy, and solar and storage will play a big role. TVA has an expansion target of 10,000 megawatts (MW) of solar by 2035. TVA has identified the need to respond more efficiently and effectively to the growing number of solar and battery projects that will be required to achieve TVA's overall decarbonization goals and aspirations. To meet its obligations under the National Environmental Policy Act (NEPA), TVA is preparing a Programmatic Environmental Impact Statement (PEIS) to develop new guidance and a bounding analysis that will further facilitate solar energy and battery energy storage development on TVA-owned and private lands within the TVA service area. TVA would consider this guidance, including recommended environmental practices and mitigation measures, in its decision-making processes.

DATES: To ensure consideration, comments on the scope, alternatives being considered, and environmental issues must be postmarked, emailed, or submitted online no later than June 20, 2023.

ADDRESSES: Written comments should be sent to Elizabeth Smith, NEPA Compliance Specialist, 400 West Summit Hill Dr., WT 11B, Knoxville, TN 37902-1499. Comments may also be submitted online at: https://www.tva.gov/NEPA or by email at NEPA@tva.gov.

FOR FURTHER INFORMATION CONTACT: For general information about the NEPA process and/or general project information, please contact Elizabeth Smith, NEPA Compliance Specialist, email: esmith14@tva.gov, or contact by phone at 865-632-3053.

SUPPLEMENTARY INFORMATION: This notice is provided in accordance with the Council on Environmental Quality's Regulations (40 CFR parts 1500 to 1508) and TVA's procedures for implementing NEPA. TVA is an agency and instrumentality of the United States, established by an act of Congress in 1933, to foster the social and economic welfare of the people of the Tennessee Valley region and to promote the proper use and conservation of the region's natural resources. One component of this mission is the generation, transmission, and sale of reliable and affordable electric energy. As part of its diversified energy strategy, TVA produces or obtains electricity from a diverse portfolio of energy sources, including solar, hydroelectric, wind, biomass, fossil fuel, and nuclear.

The analyses in a programmatic NEPA review are valuable in setting out the broad view of environmental impacts and benefits for a proposed decision such as establishing a policy, program, or plan. That programmatic NEPA review can then be relied upon when agencies make decisions based on the programmatic EIS, as well as decisions based on a subsequent (also known as tiered) NEPA review.

Public comment is invited concerning the scope of the PEIS, alternatives being considered, and environmental issues that should be addressed as a part of this PEIS. TVA is also requesting data, information, and analysis relevant to the proposed action from the public; affected Federal, State, tribal, and local governments, agencies, and offices; the scientific community; industry; or any other interested party.

Background

In June 2019, TVA completed the 2019 Integrated Resource Plan (IRP) and associated EIS. The IRP is a comprehensive study of how TVA will meet the demand for electricity in its service territory over the next 20 years. The 2019 IRP recommends solar expansion and anticipated growth in all scenarios analyzed, with most scenarios anticipating 5,000 to 8,000 MW and one anticipating up to 14,000 MW by 2038, as well as up to 5,300 MW of storage. The IRP recommendation as well as customer demand for cleaner energy has prompted TVA to release multiple Requests for Proposal for renewable energy and carbon-free energy resources since 2019. As of April 2023, TVA currently has over 2,900 MW of solar capacity both operating and contracted.

TVA has identified the need to respond in a more efficient and effective manner to the growing number of solar and battery projects that will be required to meet the target supply identified in the 2019 IRP and to meet TVA's carbon reduction goals. Programmatic environmental guidance would seek to minimize potential negative environmental impacts, minimize social and economic impacts, integrate conservation measures with site development in alignment with the TVA Biodiversity Policy, and standardize and streamline the authorization process for solar energy development through a bounding analysis to help identify the range of potential impacts or risks. TVA's purpose is to promote, expedite, and advance the production and transmission of environmentally sound energy resources, including solar energy and battery storage systems, and increase opportunities for responsible renewable energy development.

Alternatives

The PEIS will evaluate a no action alternative, under which TVA would not develop programmatic environmental guidance and continue to address environmental concerns for TVA-owned and TVA-contracted solar and battery projects on a case-by-case basis. Under the action alternative, TVA would develop programmatic environmental guidance through a bounding analysis to help identify the range of potential impacts or risks for use in TVA-owned and TVA-contracted solar and battery projects. TVA solicits comment on whether there are other alternatives that should be assessed in the PEIS. TVA also requests information and analyses that may be relevant to the project.

Resource Areas and Issues To Be Considered

Public scoping is integral to the process for implementing NEPA and ensures that (1) issues are identified early and properly studied, (2) issues of little significance do not consume substantial time and effort, and (3) the analysis of identified issues is thorough and balanced. This PEIS will identify the purpose and need of the action alternative and will contain descriptions of the existing environmental and socioeconomic resources within the TVA power service area that could be affected by the proposed project. Evaluation of potential environmental impacts to these resources will include, but not be limited to, water resources, biological resources, cultural resources, natural areas and recreation, navigation, utilities, recreation, floodplains, wetlands, geology and groundwater, air quality and climate change, greenhouse gas emissions, land use and prime farmland, noise, public health and safety, socioeconomics and environmental justice, solid and hazardous waste and material, transportation, and visual resources. The PEIS will analyze measures that would avoid, minimize, or mitigate environmental effects.

The final range of issues to be addressed in the environmental review will be determined, in part, from scoping comments received. TVA is particularly interested in public input on other reasonable alternatives that should be considered in the PEIS. The preliminary identification of reasonable alternatives and environmental issues in this notice is not meant to be exhaustive or final.

Public Participation

The public is invited to submit comments on the scope of the PEIS no later than the date identified in the DATES section of this notice. Federal, state, and local agencies and Native American Tribes are also invited to provide comments. Written requests to participate as a consulting party or cooperating agency must be received by June 20, 2023. Information about this project is available on the TVA web page at https://www.tva.gov/NEPA including a link to an online public comment page. Any comments received, including names and addresses, will become part of the administrative record and will be available for public inspection.

After consideration of comments received during the scoping period, TVA will develop a scoping document that will summarize public and agency comments that were received and identify the schedule for completing the PEIS process. Following analysis of the resources and issues, TVA will prepare a draft PEIS for public review and comment tentatively scheduled for 2024; the final PEIS and decision is tentatively scheduled for 2025.

In finalizing the PEIS and in making its final decision, TVA will consider the comments that it receives on the draft PEIS.

Authority: 40 CFR 1501.9.

Susan Jacks,
General Manager, Environmental Resource Compliance.

[FR Doc. 2023-10654 Filed 5-18-23; 8:45 am]

BILLING CODE 8120-08-P